DEPARTMENT OF STATE

Public Notice #: 3604

Advisory Commission on Public Diplomacy; Notice of Meeting

The U.S. Advisory Commission on Public Diplomacy, reauthorized pursuant to P.L. 106-113 (H.R. 3194, Consolidated Appropriations Act, 2000), will meet on Tuesday, April 17, 2001, in Room 600, 301 4th St., SW, Washington, D.C. from 9:30 a.m. to 12:00 Noon.

The Commission will discuss the Department's exchange programs, public diplomacy in the Far East, and the Smith-Mundt Act.

Members of the general public may attend the meeting, though attendance of public members will be limited to the seating available. Access to the building is controlled, and individual building passes are required for all attendees. Persons who plan to attend should contact David J. Kramer, Executive Director, at (202) 619-4463.

Dated: March 19, 2001.
David J. Kramer,
U.S. Advisory Commission on Public Dipomacy, U.S. Department of State.

[FR Doc. 01-7429 Filed 3-23-01; 8:45 am]

BILLING CODE 4710-11-P